FEDERAL MARITIME COMMISSION

[Docket No. FMC-2023-0013]

Agency Information Collection Activities: 60-Day Public Comment Request

AGENCY: Federal Maritime Commission.

ACTION: Sixty-day notice; request for comments.

SUMMARY: As part of our continuing effort to reduce paperwork and respondent burden, and as required by the Paperwork Reduction Act of 1995, the Federal Maritime Commission (Commission) invites comments on a new web portal to collect information from the public regarding comments, complaints, concerns, reports of noncompliance, requests for investigation, and requests for alternative dispute resolution. The collection implements certain provisions of the Ocean Shipping Reform Act of 2022.

DATES: Written comments must be submitted on or before September 11, 2023.

ADDRESSES: The Commission has transitioned from accepting comments via email and is using its Electronic Reading Room through the Federal eRulemaking Portal at www.regulations.gov. The docket of this notice can be found at https://www.regulations.gov/ under Docket No. FMC-2023-0013. The FMC will summarize any comments received in response to this notice in a subsequent notice and include them in its information collection submission to OMB for approval.

FOR FURTHER INFORMATION CONTACT: William Cody, Secretary; Phone: (202) 523-5725; Email: secretary@fmc.gov.

SUPPLEMENTARY INFORMATION:

Request for Comments

The Commission, as part of its continuing effort to reduce paperwork and respondent burden, invites the general public and other Federal agencies to comment on the continuing information collections listed in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments. We invite comments on: (1) the necessity and utility of the proposed information collection for the proper performance of the agency's functions; (2) the accuracy of the estimated burden; (3) ways to enhance the quality, utility, and clarity of the information to be collected; and (4) the use of automated collection techniques or other forms of information technology to minimize the information collection burden.

Information Collections Open for Comment

Title: FMC Web Portal.

OMB Approval Number: 3072-XXXX.

Abstract: Section 17(a) of the Ocean Shipping Reform Act of 2022 requires that the Commission “establish on the public website of the Commission a web page that allows for the submission of comments, complaints, concerns, reports of noncompliance, requests for investigation, and requests for alternative dispute resolution”: and that it direct each submission to the appropriate component office of the Commission.

The FMC will implement a new web portal available through the agency's website to collect this information from the public. The collected information will be internally routed to the appropriate component office for response. As this collection includes inquiries related to dispute resolution services, it also encompasses Forms FMC-32 (Dispute Resolution Service Request-Cruise) and FMC-33 (Dispute Resolution Service Request—Cargo). These forms are available at https://www.fmc.gov/forms-and-applications/. The burden associated with these forms is included in this collection.

Current Actions: The information being submitted contains a new data collection.

Type of Review: New information collection.

Needs and Uses: The Commission will use the web portal to receive requests from the public and ensure prompt response to the shipping public.

Frequency: This information will be collected when members of the public choose to submit it.

Type of Respondents: Individuals and establishments who wish to ask questions, express concerns, or submit complaints to the Federal Maritime Commission.

Number of Annual Respondents: The Commission estimates an annual respondent universe of 5,000. The Commission further estimates 300 of these responses will require attaching an FMC form related to dispute resolution services (FMC-32 or FMC-33).

Estimated Time per Response: The time per response is estimated at 6 minutes per response for submissions that do not involve attaching forms and 20 minutes for responses requiring attaching forms.

Total Annual Burden: Burden is calculated as 4,700 × 6 minutes = 470 hours per portal submission that does not also include a form and 300 × 20 minutes = 100 hours for a submission that also includes either a FMC-32 or FMC-33. Total burden equals 570 hours.

William Cody,
Secretary.

[FR Doc. 2023-14628 Filed 7-10-23; 8:45 am]

BILLING CODE 6730-02-P